DEPARTMENT OF TRANSPORTATION

Pipeline and Hazardous Materials Safety Administration

[Docket No. PHMSA-05-21747; Notice 1]

Pipeline Safety: Request for Waiver; Southern LNG

AGENCY: Pipeline and Hazardous Materials Safety Administration (PHMSA); U.S. Department of Transportation (DOT).

ACTION: Notice of intent to consider waiver request.

SUMMARY: Southern LNG (SLNG), requested a waiver of compliance from the regulatory requirements at 49 CFR 193.2301, which requires each LNG facility constructed after March 31, 2000 to comply with 49 CFR 193 and ANSI/NFPA 59A.

DATES: Persons interested in submitting written comments on the waiver request described in this Notice must do so by August 15, 2005. Late filed comments will be considered as far as practicable.

ADDRESSES: You may submit written comments by mailing or delivering an original and two copies to the Dockets Facility, U.S. Department of Transportation (DOT), Room PL-401, 400 Seventh Street, SW., Washington, DC 20590-0001. The Dockets Facility is open from 9 a.m. to 5 p.m., Monday through Friday, except on Federal holidays when the facility is closed. Alternatively, you may submit written comments to the docket electronically at the following Web address: http://dms.dot.gov. All written comments should identify the docket and notice numbers stated in the heading of this notice. Anyone who wants confirmation of mailed comments must include a self-addressed stamped postcard. To file written comments electronically, after logging on to http://dms.dot.gov, click on “Comment/Submissions.” You can also read comments and other material in the docket. General information about the Federal pipeline safety program is available at http://ops.dot.gov.

Anyone is able to search the electronic form of all comments received into any of our dockets by the name of the individual submitting the comment (or signing the comment, if submitted on behalf of an association, business, labor union, etc.). You may review DOT's complete privacy Act Statement in the Federal Register published on April 11, 2000 (Volume 65, Number 70; Pages 19477-78) or you may visit http://dms.dot.gov.

FOR FURTHER INFORMATION CONTACT: James Reynolds by telephone at 202-366-2786, by fax at 202-366-4566, by mail at DOT, Pipeline and Hazardous Materials Safety Administration (PHMSA) Office of Pipeline Safety (OPS), 400 7th Street, SW., Washington, DC 20590, or by e-mail at james.reynolds@dot.gov.

SUPPLEMENTARY INFORMATION:

Background

Southern LNG (SLNG), an El Paso Company, requests a waiver of compliance from the regulatory requirements at 49 CFR 193.2301. This regulation requires each LNG facility constructed after March 31, 2000 to comply with 49 CFR 193 and ANSI/NFPA 59A.

NFPA 59A requires that welded containers designed for not more than 15 psig comply with the Eighth Edition, 1990, of API 620, Design and Construction of Large, Welded, Low-Pressure Storage Tanks (Appendix Q). The Eighth Edition of API 620 requires inspection according to Appendix Q which calls for the full radiographic examination of all vertical and horizontal butt welds associated with the container.

SLNG is proposing to use the current Tenth Edition, Addendum 1, of API 620. The Tenth Edition, Addendum 1, of API 620, allows ultrasonic examination—in lieu of radiography—as an acceptable alternative non-destructive testing method. SLNG proposes to use ultrasonic examination on its project, which consist of full semi-automated and manual ultrasonic examination using shear wave probes. The examination will also consist of a volumetric ultrasonic examination using a combination of creep wave probes and focused angled longitudinal waive probes.

SLNG stated that the NFPA 59A Technical Committee recently approved and recommended the acceptance of the Tenth Edition, 2002 of API 620. PHMSA has not adopted the Tenth Edition, 2002 of API 620, and has not incorporated it by reference in Appendix A to Part 193; therefore, a waiver is required.

SLNG asserts that ultrasonic examination is more sensitive than radiographic examination to detect the type of flaws most susceptible in the design and construction of large welded low pressure storage tanks. SLNG further asserts that any potentially detrimental weld defect in the container walls will be identifiable using the ultrasonic examination method.

SLNG concludes that the alternative method of inspection allowed by the current Tenth Edition, Addendum 1, of API 620, will not reduce the integrity of the installation, and will in fact enhance the quality of the inspection by using modern inspection technology while improving personnel safety and information sharing.

For the reasons stated, SLNG is requesting a waiver from 49 CFR 193.2301 and is asking that it be allowed to use the ultrasonic examination method according to the Tenth Edition, Addendum 1, of API 620, in lieu of the radiographic examination method as specified by the Eighth Edition of API 620.

System Description

SLNG's Elba Island Expansion Project consists of one tank with a volume of approximately one million barrels. The tank is located at the Southern LNG Receiving Terminal at Elba Island in Savanna, Georgia. The outer wall of the container is constructed of Carbon Steel and the inner wall of 9% Nickel Steel. This project received approval from the Federal Energy Regulatory Commission on April 10, 2003.

OPS will consider SLNG's waiver request and whether SLNG's proposal will yield an equivalent or greater degree of safety than that currently provided by the regulations. This Notice is OPS' only request for public comment before making a decision. After considering any comments received, OPS may grant SLNG's waiver request as proposed or with modifications and conditions or deny SLNG's request. If the waiver is granted and OPS subsequently determines that the effect of the waiver is inconsistent with pipeline safety, OPS may revoke the waiver at its sole discretion.

Issued in Washington, DC on July 7, 2005.
Joy Kadnar,
Director of Engineering and Emergency Support.

[FR Doc. 05-13867 Filed 7-13-05; 8:45 am]

BILLING CODE 4910-60-P